DEPARTMENT OF TRANSPORTATION

Federal Aviation Administration

14 CFR Part 39

[Docket No. 2002-NE-08-AD; Amendment 39-12865; AD 2002-16-26]

RIN 2120-AA64

Airworthiness Directives; Bombardier-Rotax GmbH Type 912 F and 914 F Series Reciprocating Engines; Correction

AGENCY: Federal Aviation Administration, DOT.

ACTION: Final rule; request for comments, correction.

SUMMARY: This document makes a correction to Airworthiness Directive (AD) 2002-16-26, applicable to Bombardier-Rotax GmbH type 912 F and 914 F series reciprocating engines. AD 2002-16-26 was published in the Federal Register on August 15, 2002 (67 FR 53296). The effective date in the DATES: section is incorrect. This document corrects that date. In all other respects, the original document remains the same.

EFFECTIVE DATE: August 30, 2002.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION: A final rule; request for comments airworthiness directive FR DOC. 02-20679, applicable to Bombardier-Rotax GmbH type 912 F and 914 F series reciprocating engines, was published in the Federal Register on August 15, 2002 (67 FR 53296). The following correction is needed:

On page 53296, in the second column, in the DATES: section, “Effective September 16, 2002” is corrected to read “Effective August 30, 2002''.

Issued in Burlington, MA, on August 30, 2002.
Francis A. Favara,
Acting Manager, Engine and Propeller Directorate, Aircraft Certification Service.

[FR Doc. 02-22760 Filed 9-6-02; 8:45 am]

BILLING CODE 4910-13-P